DEPARTMENT OF ENERGY

Federal Energy Regulatory Commission

Combined Notice of Filings #1

December 19, 2008.

Take notice that the Commission received the following electric corporate filings:

Docket Numbers: EC09-31-000.

Applicants: Snowflake White Mountain Power, LLC, Renegy Holdings, LLC, AZ Biomass, LLC.

Description: Joint Application for Authorization of Proposed Transaction under Section 203 of the Federal Power Act, and Request for Waiver of Certain Filing Requirements and Confidential Treatment.

Filed Date: 12/18/2008.

Accession Number: 20081218-5094.

Comment Date: 5 p.m. Eastern Time on Thursday, January 8, 2009.

Take notice that the Commission received the following electric rate filings:

Docket Numbers: ER08-1581-000.

Applicants: Mint Farm Energy Center LLC.

Description: Puget Sound Energy, Inc submits Revised Cancelled Tariff Sheet reflecting 12/5/08 as the effective date under ER08-1581.

Filed Date: 12/15/2008.

Accession Number: 20081218-0190.

Comment Date: 5 p.m. Eastern Time on Monday, January 5, 2009.

Docket Numbers: ER09-185-001.

Applicants: Weyerhaeuser NR Company.

Description: Weyerhaeuser NR Company submits their revised Rate Schedule 1 in connection with the petition for market based rate authority etc under ER09-185.

Filed Date: 12/18/2008.

Accession Number: 20081219-0112.

Comment Date: 5 p.m. Eastern Time on Monday, December 29, 2008.

Docket Numbers: ER09-201-001.

Applicants: Gilroy Energy Center, LLC.

Description: Gilroy Energy Center, LLC submits a revision to Tariff Sheet 145, which is contained in the Rate Schedules of its Reliability Must-Run Agreement with the California Independent System Operator Corporation.

Filed Date: 12/16/2008.

Accession Number: 20081218-0221.

Comment Date: 5 p.m. Eastern Time on Tuesday, January 6, 2009.

Docket Numbers: ER09-417-000.

Applicants: Southern California Edison Company.

Description: Southern California Edison Company submits revised sheets to the Interconnection Facilities Agreement with the County Sanitation Districts of Los Angeles etc.

Filed Date: 12/16/2008.

Accession Number: 20081218-0213.

Comment Date: 5 p.m. Eastern Time on Tuesday, January 6, 2009.

Docket Numbers: ER09-418-000.

Applicants: Startrans IO, L.L.C.

Description: Startrans IO, LLC submits First Revised Sheet No. 24 et al. to FERC Electric Tariff, Original Volume No. 1, to become effective 1/1/09.

Filed Date: 12/16/2008.

Accession Number: 20081218-0216.

Comment Date: 5 p.m. Eastern Time on Tuesday, January 6, 2009.

Docket Numbers: ER09-419-000.

Applicants: California Independent System Operator C.

Description: California Independent System Operator Corp submits its Transmission Access Charge Informational Filing.

Filed Date: 12/16/2008.

Accession Number: 20081218-0215.

Comment Date: 5 p.m. Eastern Time on Tuesday, January 6, 2009.

Docket Numbers: ER09-420-000.

Applicants: ISO New England Inc., Public Service Company of New Hampshire

Description: ISO New England Inc. et al. submits an executed non-confirming Standard Large Generator Interconnection Agreement.

Filed Date: 12/16/2008.

Accession Number: 20081218-0214.

Comment Date: 5 p.m. Eastern Time on Tuesday, January 6, 2009.

Take notice that the Commission received the following open access transmission tariff filings:

Docket Numbers: OA08-101-002.

Applicants: PJM Interconnection, L.L.C.

Description: PJM Interconnection, LLC submits errata filing in response to a request from Commission Staff for clarification revisions in Attachment C of the PJM Tariff regarding references to coordination agreements etc.

Filed Date: 12/16/2008.

Accession Number: 20081218-0219.

Comment Date: 5 p.m. Eastern Time on Tuesday, January 6, 2009

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-485 Filed 1-12-09; 8:45 am]

BILLING CODE 6717-01-P